DEPARTMENT OF THE INTERIOR

National Park Service

[NPS-WASO-CONC-24212; PPWOBSADC0, PPMVSCS1Y.Y00000]

Notice of Continuation of Concession Contracts

AGENCY: National Park Service, Interior.

ACTION: Public notice.

SUMMARY: Pursuant to the terms of existing concession contracts, public notice is hereby given that the National Park Service has requested a continuation of visitor services for the periods specified below.

DATES: The continuation commences on January 1, 2018.

FOR FURTHER INFORMATION CONTACT: Brian Borda, Chief, Commercial Services Program, National Park Service, 1849 C Street NW, Mail Stop 2225, Washington, DC 20240, Telephone: 202-513-7156.

SUPPLEMENTARY INFORMATION: The contracts listed below have been extended to the maximum allowable under 36 CFR 51.23. Under the provisions of the respective concession contracts and pending the completion of the public solicitation of a prospectus for a new concession contract, the National Park Service authorizes continuation of visitor services for a period not-to-exceed 1 year commencing January 1, 2018, under the terms and conditions of the current contract as amended. The continuation of operations does not affect any rights with respect to selection for award of a new concession contract. The publication of this notice merely reflects the intent of the National Park Service but does not bind the National Park Service to continue any of the contracts listed below.

Park unit | CONCID | Concessioner
National Mall and Memorial Parks | NACC003-86 | Guest Services, Inc.
Independence National Historical Park | INDE001-94 | Concepts by Staib, Ltd.
Blue Ridge Parkway | BLRI001-83 | Southern Highland Handicraft Guild, Inc.
Cape Hatteras National Seashore | CAHA001-98 | Koru Village Incorporated.
Cape Hatteras National Seashore | CAHA004-98 | Oregon Inlet Fishing Center, Inc.
Glen Canyon National Recreation Area | GLCA002-88 | ARAMARK Sports and Entertainment Services, Inc.
Glen Canyon National Recreation Area | GLCA003-69 | ARAMARK Leisure Services, Inc.
Lake Mead National Recreation Area | LAKE001-73 | Rex G. Maughan and Ruth G. Maughan.
Lake Mead National Recreation Area | LAKE002-82 | Lake Mead R.V. Village, LLC.
Lake Mead National Recreation Area | LAKE005-97 | Rex G. Maughan and Ruth G. Maughan.
Lake Mead National Recreation Area | LAKE006-74 | Las Vegas Boat Harbor, Inc.
Lake Mead National Recreation Area | LAKE007-84 | Seven Resorts, Inc.
Lake Mead National Recreation Area | LAKE009-88 | Temple Bar Marina, LLC.

Teresa Austin,
Associate Director, Business Services.

[FR Doc. 2018-04029 Filed 2-27-18; 8:45 am]

BILLING CODE 4312-53-P